DEPARTMENT OF AGRICULTURE

Rural Housing Service

Notice of Request for Extension of a Currently Approved Information Collection

AGENCY: Rural Housing Service, USDA.

ACTION: Proposed collection; comments requested.

SUMMARY: In accordance with the Paperwork Reduction Act of 1995, this notice announces the Rural Housing Service's (RHS) intention to request an extension for a currently approved information collection in support of the program for Self-Help Technical Assistance Grants (7 CFR part 1944-I).

DATES: Comments on this notice must be received by July 27, 2015 to be assured of consideration.

FOR FURTHER INFORMATION CONTACT: Andrea Birmingham, Loan Specialist, Single Family Housing Direct Loan Division, RHS, U.S. Department of Agriculture, Stop 0783, 1400 Independence Ave. SW., Washington, DC 20250-0783, Telephone (202) 720-1489.

SUPPLEMENTARY INFORMATION:

Title: 7 CFR 1944-I, Self-Help Technical Assistance Grants.

OMB Number: 0575-0043.

Expiration Date of Approval: July 15, 2015.

Type of Request: Extension of currently approved information collection.

Abstract: This subpart sets forth the policies and procedures and delegates authority for providing technical assistance funds to eligible applicants to finance programs of technical and supervisory assistance for the self-help housing loan program, as authorized under section 523 of the Housing Act of 1949 under 42 U.S.C 1472. This financial assistance may pay part or all of the cost of developing, administering or coordinating programs of technical and supervisory assistance to aid very low and low-income families in carrying out self-help housing efforts in rural areas. The primary purpose is to locate and work with families that otherwise do not qualify as homeowners, are below the 50 percent of median income, and living in substandard housing.

RHS will be collecting information from non-profit organizations to enter into grant agreements. These non-profit organizations will give technical and supervisory assistance, and in doing so, they must develop a final application for section 523 grant funds. This application includes Agency forms that contain essential information for making a determination of eligibility.

Estimate of Burden: Public reporting burden for this collection of information is estimated to average 1.35 hours per response.

Respondents: Public or private nonprofit organizations, State, Local or Tribal Governments.

Estimated Number of Respondents: 105

Estimated Number of Responses per Respondent: 20

Estimated Number of Responses: 2,100

Estimated Total Annual Burden on Respondents: 3,867

Copies of this information collection can be obtained from Jeanne Jacobs, Regulations and Paperwork Management Branch, Support Services Division at (202) 692-0040.

Comments: Comments are invited on: (a) Whether the proposed collection of information is necessary for the proper performance of the functions of the RHS, including whether the information will have practical utility; (b) the accuracy of RHS's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, Support Services Division, U.S. Department of Agriculture, Rural Development, STOP 0742, 1400 Independence Ave. SW., Washington, DC 20250. All responses to this notice will be summarized and included in the request for OMB approval. All comments will become a matter of public record.

Dated: May 15, 2015.
David Lipsetz,
Acting Administrator, Rural Housing Service.

[FR Doc. 2015-12563 Filed 5-22-15; 8:45 am]

BILLING CODE 3410-XV-P